COMMITTEE FOR THE IMPLEMENTATION OF TEXTILE AGREEMENTS

Establishment of a New Export Visa Arrangement and New Certification Stamp for Outward Processed Goods for Certain Cotton, Wool, Man-Made Fiber, Silk Blend and Other Vegetable Fiber Textiles and Textile Products Produced or Manufactured in Romania; Amendment

February 2, 2000.

In the letter to the Commissioner of Customs published in the Federal Register on December 14, 1999 (64 FR 69744), insert the following sentence on page 69746, 1st column, 6th paragraph, line 20, right above “General Provisions”: “Any shipment which is declared for the Outward Processing Program but found not to qualify may be permanently denied entry into the United States.”

Troy H. Cribb,
Chairman, Committee for the Implementation of Textile Agreements.

[FR Doc. 00-2824 Filed 2-7-00; 8:45 am]

BILLING CODE 3510-DR-F